POSTAL SERVICE

39 CFR Part 111

Changes in Procedures for Standard Mail Destination Entry Mailings

AGENCY: Postal Service.

ACTION: Final rule.

SUMMARY: The Postal Service, after considering the written responses to its proposed rule published in the Federal Register on December 22, 1999 (64 FR 71702-71704), requesting public comment on proposed amendments to the Domestic Mail Manual, gives notice that it is implementing amendments to procedures for Standard Mail Destination Entry Mailings.

EFFECTIVE DATE: March 12, 2000.

FOR FURTHER INFORMATION CONTACT: RoseMarie Gay (202) 268-7810.

SUPPLEMENTARY INFORMATION: On December 22, 1999, the Postal Service published in the Federal Register (64 FR 71702-71704) a proposal to amend the Domestic Mail Manual procedures for setting appointments for mailings of Standard Mail (A) and Standard Mail (B) from once a month to once a week for recurring appointments.

In addition, the Postal Service proposed that if a mailer requests an appointment at a destination delivery unit (DDU) for a Standard Mail (A) or Standard Mail (B) mailing, then the 5-digit ZIP Codes of the mail being deposited must be provided at the time of request. Also, consistent with current standards for Standard Mail (A), a change was proposed to provide for the redirection of Standard Mail (B).

Response to Comments

The Postal Service requested comments by January 21, 2000. Two comments were received from the mailing industry.

One mailer commented that there was no mention of how postage will be adjusted and calculated when mail is redirected by the Postal Service. The Postal Service will recalculate postage according to Domestic Mail Manual section E613.2.2.

The mailer also commented that there was no mention of destination delivery unit (DDU) appointments made by using the Drop Shipment Appointment System (DSAS). The commenter also questioned if mailers can make DDU appointments using DSAS and, if DSAS appointments are allowed, whether the procedures are different when contacting the DDU via DSAS.

In response, the Postal Service notes that this comment is beyond the scope of the Federal Register notice; however, the commenter should be aware that the procedures for making DDU appointments have not changed.

One other mailer agreed with the change of frequency from once a month to once a week. The mailer also suggested that DSAS be changed so that if a recurring appointment is made “x” days in advance, DSAS would require reconfirmation of the appointment two days prior to the appointment date. If the appointment is not reconfirmed within the assigned time period, then that time slot would be available for others. Currently, the DSAS system cannot perform this function, and adding this feature would require enhancements to this system. Due to considerable expense involved, the Postal Service has determined not to add this enhancement to the system at this time.

This mailer also commented on the error rate of DDU addresses and asked that DDU acceptance hours be expanded. An additional comment by this mailer was that DDU acceptance hours be expanded. These comments are beyond the scope of this Federal Register notice and need not be addressed.

The new amendments become effective on March 12, 2000. Until that date, mailers must follow current mailing standards.

Although exempt from the notice and comment requirements of the Administrative Procedures Act (5 U.S.C. 553 (b), (c)) regarding rulemaking by 39 USC 410, the Postal Service hereby gives notice of the following revisions to the Domestic Mail Manual (DMM), incorporated by reference in the Code of Federal Regulations (see CFR Part 111).

List of Subjects in 39 CFR Part 111

Administrative practice and procedure.

PART 111—[AMENDED]

1. The authority citation for 39 CFR part 111 continues to read as follows:

Authority: 5 U.S.C. 552(a): 39 U.S.C 101, 401, 403, 404, 414, 3001-3011, 3201-3219, 3403-3406, 3621, 3626, 5001.

2. Amend the Domestic Mail Manual as set forth below:

E Eligibility

* * * * *

E600 Standard Mail

* * * * *

E650 Destination Entry

E651 Regular, Nonprofit, and Enhanced Carrier Route Standard Mail

* * * * *

3.0 DEPOSIT

* * * * *

(Redesignate 3.3 through 3.11 as 3.4 through 3.12 respectively; add new 3.3 to read as follows:)

3.3 Appointments

Appointments must be made for destination entry rate mail as follows:

a. Except for a local mailer under 4.0 and mailings of perishable commodities, appointments for deposit of destination entry rate mail at BMCs, ASFs, and SCFs must be scheduled through the appropriate appointment control center at least one business day in advance. Same-day appointments may be granted by a control center only through a telephone request. All appointments for BMC loads must be scheduled by the appropriate BMC control center. Appointments for SCFs and ASFs must be scheduled through the appropriate district control center. Appointments may be made up to 30 calendar days before a desired appointment date. The mailer must adhere to the scheduled mail deposit time and location. The mailer must cancel any appointment by notifying the appropriate control center at least 24 hours in advance of a scheduled appointment.

b. Electronic appointments may be made by a mailer or agent using a USPS-issued computer logon ID. Electronic appointments or cancellations must be made at least 12 hours before the desired time and date. All information required by the USPS appointment system regarding a mailing must be provided.

c. For deposit of DDU mailings, an appointment must be made by contacting the DDU at least 24 hours in advance. If the appointment must be canceled, the mailer must notify the DDU at least one business day in advance of a scheduled appointment. Recurring appointments are allowed if shipment frequency is once a week or more often.

d. When Periodicals are transported together with Standard Mail (A) or Standard Mail (B) as a mixed load (E250), an appointment must be obtained for deposit at a destination entry facility.

(Revise heading of redesignated 3.4 to read as follows:)

3.4 Advance Scheduling

(Amend 3.4 by revising 3.4a, b, c, and d to read as follows:)

Except under 4.0, a mailer must schedule deposit of destination rate mailings at least 24 hours in advance by contacting the proper district or BMC control center or destination delivery unit. Appointments at delivery units must be made by calling the delivery unit at least 24 hours in advance. Appointments for ASFs, SCFs, or for any multistop loads must be made through the USPS district control center. Appointments for BMC loads must be scheduled by the proper BMC control center. When making an appointment, or as soon as available, the mailer must provide the control center or DDU with the following information:

a. Mailer's name and address and, when applicable, the name and telephone number of the mailer's agent or local contact.

b. Description of what is being mailed, product name, number of mailings, volume of mail, how prepared, and whether containerized (e.g., pallets). For DDU entries, the mailer also must provide the 5-digit ZIP Code(s) of the mail being deposited.

c. Where mailing was verified.

d. Postage payment method.

* * * * *

3.6 Redirection by USPS

(Revise redesignated 3.6 to read as follows:)

A mailer may be directed to transport destination entry rate mailings to a facility other than the designated DDU, SCF, or BMC due to facility restrictions, building expansions, peak season mail volumes, or emergency constraints.

* * * * *

(Amend heading of 3.8 by changing “standing” to “recurring” to read as follows:)

3.8 Recurring Appointments

(Revise redesignated 3.8 to read as follows:)

A mailer may request recurring appointments, renewable for a 6-month period, by writing to the BMC control center or the district control center that administers the service area in which the destination facility is located. The mailer must present comparable mailings (by product and volume) on a consistent frequency of at least once a week. Failure to adhere to scheduled appointment procedures can cause revocation of the recurring appointment.

* * * * *

E652 Parcel Post

* * * * *

4.0 DEPOSIT

* * * * *

(Redesignate current 4.6 through 4.11 as 4.7 through 4.12, respectively; add new 4.6 to read as follows:)

4.6 Redirection by USPS

With the exception of mail deposited under 1.3e, a mailer may be directed to transport destination entry rate mailings to a facility other than the designated DDU, SCF, or BMC due to facility restrictions, building expansions, peak season mail volumes, or emergency constraints.

(Revise heading of redesignated 4.7 to read as follows:)

4.7 Advance Scheduling

(Amend redesignated 4.7b by adding second sentence to read as follows:)

When making an appointment, or as soon as available, the mailer must provide the control center or DDU with the following information:

* * * * *

b. Description of what is being mailed, product name, number of mailings, volume of mail, how prepared, and whether containerized (e.g., pallets). For DDU entries, the mailer also must provide the 5-digit ZIP Code(s) of the mail being deposited.

* * * * *

4.8 Deposit Conditions

(Amend redesignated 4.8b by changing the frequency from “once a month” to “once a week” to read as follows:)

Deposit of mail also is subject to these conditions:

* * * * *

b. A mailer may request recurring appointments, renewable for a 6-month period, by writing to the BMC control center or the district control center that administers the service area in which the destination facility is located. The mailer must present comparable mailings (by product and volume) on a consistent frequency of at least once a week. Failure to adhere to scheduled appointment procedures can cause revocation of the recurring appointment.

* * * * *

Stanley F. Mires,
Chief Counsel, Legislative.

[FR Doc. 00-5962 Filed 3-9-00; 8:45 am]

BILLING CODE 7710-12-P